DEPARTMENT OF THE INTERIOR

Bureau of Indian Affairs

Notice of Near-Reservation Designations for California Tribes

AGENCY: Bureau of Indian Affairs, Interior.

ACTION: Notice.

SUMMARY: This notice is published in exercise of authority delegated by the Secretary of the Interior to the Assistant Secretary—Indian Affairs. Pursuant to 25 CFR 20.1(r), notice is hereby given of the near-reservation designations for certain Indian tribal entities within the States of California and Oregon recognized as eligible to receive services from the United States Bureau of Indian Affairs (BIA).

DATES: These near-reservation designations become effective on June 15, 2000.

FOR FURTHER INFORMATION CONTACT: Larry Blair, Chief, Human Services Branch, Bureau of Indian Affairs, 1849 C Street, NW., MS-4660-MIB, Washington, D.C. 20240, Telephone No. (202) 208-2479.

SUPPLEMENTARY INFORMATION: In accordance with 25 CFR part 20—Financial Assistance and Social Services Program, the Assistant Secretary—Indian Affairs designates the following locales as “near-reservation” areas appropriate for the extension of BIA financial assistance and/or social services. 25 CFR part 20—Financial Assistance and Social Services Program regulations have full force and effect when extending BIA financial assistance and/or social services into these designated “near-reservation” locations. In the absence of officially designated “near-reservation” areas, such services are provided only to Indian people who live within reservation boundaries. The tribes identified below are now authorized to extend financial assistance and social services to their eligible tribal members (and their family members who are Indian) who reside outside the boundaries of a federally recognized tribe's reservation, but within the areas designated below.

The locales listed below are those designated for this purpose.

Tribe: Big Sandy Rancheria

“Near-reservation” locations: The counties of Madera, Fresno and Kings in the State of California.

Tribe: Big Valley Rancheria

“Near-reservation” locations: The counties of Lake and Sonoma in the State of California.

Tribe: Bishop Reservation

“Near-reservation” locations: The counties of Mono and Inyo in the State of California.

Tribe: Cedarville Rancheria

“Near-reservation” location: The county of Modoc in the State of California.

Tribe: Cortina Rancheria

“Near-reservation” locations: The counties of Glenn, Colusa, Yolo and Sacramento in the State of California.

Tribe: Dry Creek Rancheria

“Near-reservation” location: The county of Sonoma in the State of California.

Tribe: Fort Bidwell Reservation

“Near-reservation” locations: The county of Modoc in the State of California. The counties of Lake and Klamath in the State of Oregon.

Tribe: Greenville Rancheria

“Near-reservation” locations: The counties of Plumas, Lassen, Shasta, Tehama, Butte, Yuba and Sutter in the State of California.

Tribe: Hopland Reservation

“Near-reservation” locations: The counties of Mendocino and Sonoma in the State of California.

Tribe: Karuk Tribe of California

“Near-reservation” locations: The counties of Siskiyou, northeastern Humboldt from State Highway 96 milepost HUM 28.61 north to the Siskiyou County Line in the State of California.

Tribe: Laytonville Rancheria

“Near-reservation” locations: The counties of Mendocino, Lake and Humboldt in the State of California.

Tribe: Mechoopda Indian Tribe of the Chico Rancheria

“Near-reservation” location: The county of Butte in the State of California.

Tribe: Mooretown Rancheria

“Near-reservation” location: The county of Butte in the State of California.

Tribe: North Fork Rancheria

“Near-reservation” locations: The counties of Madera, Mariposa and Fresno in the State of California.

Tribe: Picayune Rancheria of the Chukchansi Indians

“Near-reservation” locations: The counties of Fresno, Madera and Mariposa in the State of California.

Tribe: Pinoleville Reservation

“Near-reservation” locations: The counties of Mendocino, Sonoma, Lake and Napa in the State of California.

Tribe: Redding Rancheria

“Near-reservation” locations: The county of Trinity and the western two-thirds of Shasta in the State of California.

Tribe: Redwood Valley Rancheria

“Near-reservation” locations: The counties of Mendocino and Sonoma in the State of California.

Tribe: Coast Indian Community of the Resighini Rancheria

“Near-reservation” location: The county of Del Norte in the State of California.

Tribe: Bear River Band of Rohnerville Rancheria

“Near-reservation” locations: The counties of Humboldt and Del Norte in the State of California.

Tribe: Round Valley Reservation

“Near-reservation” locations: The counties of Trinity, Mendocino, Lake and Sonoma in the State of California.

Tribe: Scotts Valley Rancheria

“Near-reservation” locations: The counties of Mendocino, Lake, Sonoma and Contra Costa in the State of California.

Tribe: Sherwood Valley Rancheria

“Near-reservation” locations: The counties of Mendocino, Lake and Sonoma in the State of California.

Tribe: Shingle Springs Rancheria

“Near-reservation” locations: The counties of El Dorado, Sacramento, Placer and Yolo in the State of California.

Tribe: Smith River Rancheria

“Near-reservation” locations: The counties of Del Norte and Humboldt in the State of California. The counties of Curry, Josephine and Coos in the State of Oregon.

Tribe: Susanville Indian Rancheria

“Near-reservation” location: The county of Lassen in the State of California.

Tribe: Tule River Reservation

“Near-reservation” location: The county of Tulare in the State of California.

Tribe: Tuolumne Rancheria

“Near-reservation” location: The county of Tuolumne in the State of California.

Tribe: Yurok Tribe

“Near-reservation” locations: The counties of Humboldt and Del Norte in the State of California.

Dated: May 5, 2000.
Kevin Gover,
Assistant Secretary—Indian Affairs.

[FR Doc. 00-12193 Filed 5-15-00; 8:45 am]

BILLING CODE 4310-02-P